DEPARTMENT OF COMMERCE

National Oceanic and Atmospheric Administration

[I.D. 022603D]

Marine Mammals; Notice of Intent to Prepare an Environmental Impact Statement for Issuing Annual Gray Whale Subsistence Quotas to the Makah Indian Tribe for the years 2003 through 2007

AGENCY: National Marine Fisheries Service (NMFS), National Oceanic and Atmospheric Administration (NOAA), Commerce.

ACTION: Notice of intent to prepare an Environmental Impact Statement(EIS); request for written comments.

SUMMARY: NMFS announces its intention to prepare an EIS, in accordance with the National Environmental Policy Act, to assess the impacts of issuing annual subsistence quotas for gray whales to the Makah Tribe for the years 2003 through 2007. NMFS solicits comments and information to facilitate this analysis.

DATES: Comments and information must be postmarked by April 21, 2003.

ADDRESSES: Written comments should be sent to Chief, Marine Mammal Division (F/PR2), Office of Protected Resources, National Marine Fisheries Service, 13th Floor, 1315 East-West Hwy, Silver Spring, MD 20910. Please mark the outside of the envelope with “Comments on Gray Whale Analysis.” Comments will not be accepted if submitted via e-mail or internet.

FOR FURTHER INFORMATION CONTACT: Chris Yates, 301-713-2322.

SUPPLEMENTARY INFORMATION: At its 2002 annual meeting, the International Whaling Commission (IWC) approved a quota of 620 gray whales for an aboriginal subsistence harvest for the years 2003 through 2007. The basis for the quota was a joint request by the Russian Federation (for a total of 600 whales) and the United States (for a total of 20 whales). The subsistence and ceremonial needs of the Makah Indian Tribe were the foundation of the United States' request to the IWC.

On December 20, 2002, the Ninth Circuit Court of Appeals reversed a district court ruling that upheld NMFS' issuance of a quota to the Makah Tribe to hunt a limited number of gray whales for aboriginal subsistence purposes in 2001 and 2002. See Anderson v. Evans, 314 F.3d 1006 (9th Cir. 2002). The Federal Government is currently considering whether to request rehearing of Anderson v. Evans. Subject to the outcome of a possible rehearing, NMFS is preparing an EIS on the issuance of annual quotas to the Makah Tribe for a subsistence hunt on gray whales for the years 2003 through 2007. NMFS is evaluating the following four alternatives:

Alternative 1 - Grant the Makah Tribe a quota of 5 whales per year over 5 years though annual quotas with restrictions that would allow a limited hunt on the gray whale summer feeding aggregation and limit the harvest to 20 landed whales over 5 years.

Alternative 2 - Grant the Makah Tribe a quota of 5 whales per year over 5 years through annual quotas with restrictions to target the hunt on migrating whales and limit the harvest to 20 landed whales over 5 years.

Alternative 3 - Grant the Makah Tribe a quota of 5 whales per year over 5 years through annual quotas without time or area restrictions. The hunt would be limited to 20 landed whales over 5 years.

Alternative 4 - (No Action) - Do not grant the Makah Tribe a quota.

Information Solicited

To ensure that the review is comprehensive and based on the best available information, NMFS is soliciting information and comments from any interested party concerning the issuance of annual gray whale quotas of 5 whales per year over 5 years to the Makah Tribe for the years 2003 through 2007. NMFS is particularly interested in any new information on the affected environment or environmental consequences that has become available since the last analysis was completed. It is requested that data, information, and comments be accompanied by (1) supporting documentation, and (2) the name, address, and affiliation of person submitting data. Following the issuance of the draft EIS NMFS will solicit additional public input.

Dated: February 28, 2003.
Laurie K. Allen,
Acting Director, Office of Protected Resources,National Marine Fisheries Service.

[FR Doc. 03-5285 Filed 3-5-03; 8:45am]

BILLING CODE 3510-22-S